DEPARTMENT OF STATE

[Public Notice: 11477]

Determination Regarding Foreign Assistance to the Central Government of Nauru

Pursuant to section 7047(c)(1) of the Department of State, Foreign Operations, and Related Programs Appropriations Act, 2021 (Div. K, Pub. L. 116-260) (FY 2021 SFOAA), section 7047(c)(1) of the FY 2019 SFOAA (Div. F, Pub. L. 116-6), and section 7047(c)(1) of the FY 2020 SFOAA (Div. G, Pub. L. 116-94), I hereby determine that the Government of Nauru has recognized the independence of, or has established diplomatic relations with, the Russian Federation occupied Georgian territories of Abkhazia and Tskhinvali Region/South Ossetia.

This determination shall be published in the Federal Register and on the Department of State website and, along with the accompanying Memorandum of Justification, shall be reported to Congress.

Dated. June 16, 2021.
Antony J. Blinken,
Secretary of State.

[FR Doc. 2021-15984 Filed 7-26-21; 8:45 am]

BILLING CODE 4710-23-P